GENERAL SERVICES ADMINISTRATION

[Notice-CECANF-2014-01; Docket No. 2014-0005; Sequence No. 1]

Commission To Eliminate Child Abuse and Neglect Fatalities; Announcement of Meeting

AGENCY: Commission to Eliminate Child Abuse and Neglect Fatalities, General Services Administration (GSA).

ACTION: Meeting Notice.

SUMMARY: The Commission to Eliminate Child Abuse and Neglect Fatalities (CECANF), a Federal Advisory Committee established by the Protect Our Kids Act of 2012, Public Law 112-275, will hold a meeting open to the public on Monday, February 24, 2014.

DATES: The meeting will be held on Monday, February 24, 2014, beginning at 8:30 a.m. Eastern Standard Time, and ending no later than 4:30 p.m. Eastern Standard Time.

ADDRESSES: The CECANF will convene its meeting in the Aerospace Building, 901 D Street SW., 7th Floor West Aerospace Building, Washington, DC 20447. This site is accessible to individuals with disabilities. The meeting may also be made available via audio link. Access information for hearing impaired will be provided upon request, please make note of it in your participation registration.

ADDRESSES: Submit comments identified by “Notice-CECANF-2014-01”, by any of the following methods:

• Regulations.gov: http://www.regulations.gov. Submit comments via the Federal eRulemaking portal by searching for “Notice-CECANF-2014-01”. Select the link “Comment Now” that corresponds with ““Notice-CECANF-2014-01”. Follow the instructions provided at screen. Please include your name, company name (if any), and “Notice-CECANF-2014-01” on your attached document.

• Fax: 202-501-4067.

• Mail: Commission to Eliminate Child Abuse and Neglect Fatalities, c/o General Services Administration, Agency Liaison Division, 1800 F St. NW., Room 7003D, Washington DC 20006.

Instructions: Please submit comments only and cite “Notice-CECANF-2014-01”, in all correspondence related to this notice. All comments received will be posted without change to http://www.regulations.gov, including any personal and/or business confidential information provided.

FOR FURTHER INFORMATION CONTACT: Contact Ms. Randee Motzkin, Designated Federal Officer, at 202-205-8347, 1800 F St. NW., Room 7003D, Washington, DC 20006.

SUPPLEMENTARY INFORMATION:

Background: The CECANF was established to develop a national strategy and recommendations for reducing fatalities resulting from child abuse and neglect.

Agenda: The purpose of this meeting is for Commission members to discuss the subjects set forth by Protect Our Kids Act of 2012, previous Commission Report, Measurement Report and project future its work.

Attendance at the Meeting: Individuals interested in attending the meeting must register in advance because of limited space. Please contact Ms. Urioste at laura.urioste@acf.hhs.gov to register to attend this meeting. To attend this meeting, please submit your full name, organization, email address, and phone number to Ms. Urioste by 5:00 p.m. Eastern Standard Time on Friday, February 14, 2014. Detailed meeting minutes will be posted within 90 days of the meeting. The meeting will be also available via teleconference, interested members of the public may listen to the CECANF discussion using 877-939-8175, meeting ID: 3067305, push pound (#) when prompted for Attendee ID. Members of the public will not have the opportunity to ask questions or otherwise participate in the teleconference. However, members of the public wishing to comment should follow the steps detailed under the heading addresses in this publication.

Dated: February 4, 2014.
Laura M. Urioste,
Executive Assistant.

[FR Doc. 2014-02728 Filed 2-6-14; 8:45 am]

BILLING CODE 6820-34-P